DEPARTMENT OF TRANSPORTATION

Federal Aviation Administration

14 CFR Part 71

[Airspace Docket No. 00-ANM-21]

Modification of Class E Airspace, Astoria, OR

AGENCY: Federal Aviation Administration (FAA), DOT.

ACTION: Final rule.

SUMMARY: This action modifies the Astoria, OR, Class E airspace to accommodate airspace required to support military operations at the Oregon Air National Guard (ORANG) Camp Rilea Heliport, Astoria, OR.

EFFECTIVE DATE: February 21, 2001.

FOR FURTHER INFORMATION CONTACT: Brian Durham, ANM-520.7, Federal Aviation Administration, Docket No. 00-ANM-21, 1601 Lind Avenue SW, Renton, Washington 98055-4056: telephone number: (425) 227-2527.

SUPPLEMENTARY INFORMATION:

History

On October 16, 2000, the FAA proposed to amend Title 14 Code of Federal Regulations, part 71 (14 CFR part 71) by modifying Class E airspace at Astoria, OR, in order to support military operations at the Oregon Air National Guard (ORANG) Camp Rilea Heliport, Astoria, OR (65 FR 200). this amendment modifies Class E2 airspace at Astoria, OR, to allow less restrictive military air operations to and from Camp Rilea Heliport. Interested parties were invited to participate in the rulemaking proceeding by submitting written comments on the proposal. No comments were received.

The Rule

This amendment to Title 14 Code of Federal Regulations, part 71 (14 CFR part 71) modifies Class E airspace at Astoria, OR, in order to allow the ORANG to conduct air operations at Camp Rilea without impacting civil air traffic, and to provide a less restrictive environment for military air operations to and from Camp Rilea Heliport, Astoria, OR. The FAA establishes Class E airspace where necessary to contain aircraft transitioning between the terminal and en route environments. This rule is designed to provide for the safe and efficient use of the navigable airspace and to promote safe flight operations under Instrument Flight Rules (IFR) and Visual Flight Rules (VFR) at the Port of Astoria Airport and Camp Rilea Heliport, and between the terminal and en route transition stages.

The area will be depicted on aeronautical charts for pilot reference. The coordinates for this airspace docket are based on North American Datum 83. Class E airspace areas designated as surface area for an airport, are published in Paragraph 6002, of FAA Order 7400.9H dated September 1, 2000, and effective September 16, 2000, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6002 Class E airspace areas designated as surface area for an airport

* * * * *

ANM OR E2 Astoria, OR [Revised]

Astoria, Port of Astoria Airport, OR

(lat. 46°09′28″N, long. 123°52′44″W)

Astoria VOR/DME

(lat. 46°09′42″N, long. 123°52′50″W)

Karpen NDB

(lat. 46°08′22″n, long. 123°35′14″W)

Astoria ILS Localizer

(lat. 46°09′35″N, long. 123°53′28″W)

Camp Rilea Heliport

(lat. 46°06′59″N, long. 123°55′54″W)

Within a 4-mile radius of the Port of Astoria Airport, and within 1.8 miles each side of the Astoria VOR/DME 268° radial extending from the 4-mile radius to 7 miles west of the VOR/DME, and within 1.8 miles each side of the Astoria ILS localizer east course extending from the 4-mile radius to the Karpen NDB, excluding the airspace within a wedge south of Camp Rilea Heliport, from the 120 bearing clockwise to the 225 bearing of the Camp Rilea Heliport.

* * * * *

Issued in Seattle, Washington, on January 8, 2001.
Dan A. Boyle,
Assistant Manager, Air Traffic Division, Northwest Mountain Region.

[FR Doc. 01-1673 Filed 1-19-01; 8:45 am]

BILLING CODE 4910-13-M